DEPARTMENT OF THE INTERIOR

Bureau of Land Management

[LLORE010000-10-L61400000HN-LXLAH99000-HAG10-0311]

Notice of Realty Action: Direct Sale of Public Lands in Lane County, OR

AGENCY: Bureau of Land Management, Interior.

ACTION: Notice of Realty Action.

SUMMARY: The Bureau of Land Management (BLM) has examined a 1.51 acre parcel of public land in Blachley, Oregon, and has found it suitable for disposal using direct (non-competitive) sale procedures.

DATES: All comments must be received in writing by the BLM on or before February 7, 2011.

ADDRESSES: Mail all written comments concerning this notice to William Hatton, BLM, Siuslaw Resource Area Manager, Eugene District Office, P.O. Box 10226, Eugene, Oregon 97440.

FOR FURTHER INFORMATION CONTACT: Cheryl Adcock, Realty Specialist, at the above address or phone (541) 683-6145.

SUPPLEMENTARY INFORMATION: The authority for the sale is under Sections 203 and 209 of the Federal Land Policy and Management Act of 1976 (FLPMA), 43 U.S.C. 1713 and 1719.

The sale parcel is located in Lane County, Oregon, in Section 11, less than ¼ mile north of Oregon State Highway 36 and is described as follows.

Willamette Meridian

T. 16 S., R. 7 W.,

Sec. 11, lot 2.

The area described contains 1.51 acres, more or less, in Lane County.

This parcel of public land is proposed for sale to Jon F. Tomas and Ann E. Lyon at no less than the appraised fair market value (FMV), which has been determined to be $11,100, as determined by the authorized officer after appraisal. An appraisal report has been prepared by a Review Appraiser of the Northwest Region of the Office of Valuation Services for the purposes of establishing the FMV.

Consistent with Section 203 of FLPMA, a tract of public land may be sold where, as a result of approved land use planning, the sale of the tract meets the disposal criteria of that section. The land described above is identified as suitable for disposal in the BLM Eugene District Resource Management Plan (RMP) approved June 1995, as amended by the RMP Amendment with Environmental Assessment (EA) for Proposed Hancock Land Exchange (EA OR-090-97-42), dated May 1998, and the Land Tenure Adjustment: Proposed Plan Amendment, Hancock Land Exchange and Finding of No Significant Impact for the Eugene RMP, approved August 1998. The proposed disposal action is consistent with the objectives, goals, and decisions of the RMP.

The disposal (sale) of the parcel would serve an important public objective by resolving the management costs of an inadvertent unauthorized use of the public lands. As such, these lands meet the criteria under 43 CFR 2710.0-3(a)(3) which states “Such tract, because of its location or other characteristics, is difficult and uneconomic to manage as part of the public lands and is not suitable for management by another Federal department or agency.” The sale of these lands meets the criteria under 43 CFR 2711.3-3(a)(4) and (5), direct sale, to be used where necessary to protect existing equities in the land, to resolve adjoining ownership pattern and access; and to resolve inadvertent unauthorized use and occupancy of the lands. A small portion of the subject parcel contains Mr. Tomas' and Ms. Lyon's front porch. The subject parcel is being used for a driveway, yard, and a well house. A competitive sale is therefore not appropriate and the public interest would be best served by a direct sale. The size of the unauthorized use has been reduced to the smallest aliquot part identified through development of a supplemental plat. These lands are not required for Federal purposes and no significant resource values will be affected by this disposal. The BLM prepared a Determination of National Environmental Policy Act Adequacy (DOI-BLM-OR-E050-2010-0006-DNA) that was approved on April 14, 2010. There was extensive public involvement opportunity in the development of the BLM Eugene District's Land Tenure Adjustment: Proposed Plan Amendment, Hancock Land Exchange and Finding of No Significant Impact for the Eugene Resource Management Plan (RMP), approved August 1998 and the associated RMP Amendment with EA for Proposed Hancock Land Exchange (EA OR-090-97-42), dated May 1998. The Determination of NEPA Adequacy (DOI-BLM-OR-E050-2010-0006-DNA), EA (EA OR-090-97-42), Decision Record, map, and approved appraisal report covering the proposed sale, are available for review at the BLM Eugene District Office.

Minerals for this parcel will be conveyed simultaneously with the surface under the authority of FLPMA Section 209(b)(1) and in accordance with BLM's approved Mineral Potential Report Dated September 21, 2009. Mr. Tomas and Ms. Lyon will be required to pay a $50 nonrefundable filing fee for the conveyance of the available mineral interests. Information pertaining to the conveyance of minerals specific to the parcel is located in the case file and available for public review at the BLM Eugene District Office.

Publication of this Notice of Realty Action in the Federal Register segregates the subject lands from all forms of appropriation under the public land laws, including the general mining and mineral leasing laws, except the sale provisions of the FLPMA. Upon publication of this Notice of Realty Action and until completion of the sale, the BLM is no longer accepting land use applications affecting the identified public land, except applications for the amendment of previously filed right-of-way applications or existing authorizations. The segregation will terminate upon issuance of the patent or other document of conveyance to such lands, upon publication in the Federal Register of a termination of the segregation, or December 24, 2012, whichever occurs first, unless extended by the BLM State Director in accordance with 43 CFR 2711.1-2(d) prior to the termination date. The land will not be sold until at least 60 days after the date of publication of this notice in the Federal Register.

Terms and Conditions of Sale:

The patent issued would contain the following rights, reservations, covenant, terms and conditions:

1. A reservation to the United States for a right-of-way for ditches and canals constructed by the authority of the United States, Act of August 30, 1890 (43 U.S.C. 945);

2. The sale parcel will be subject to all valid existing rights of record at the time of conveyance;

3. The patentees, by accepting patent, agree to indemnify, defend, and hold the United States harmless from any costs, damages, claims, causes of action, penalties, fines, liabilities, and judgments of any kind arising from the past, present, or future acts or omissions of the patentees, their employees, agents, contractors, lessees, or any third party arising out of or in connection with the patentees' use, occupancy, or operations on the patented real property resulting in: (a) Violations of Federal, State, and local laws and regulations that are now, or in the future become, applicable to the real property; (b) Judgments, claims, or demands of any kind assessed against the United States; (c) Costs, expenses, or damages of any kind incurred by the United States; (d) Releases or threatened releases of solid or hazardous waste(s) and/or hazardous substance(s), pollutant(s) or containment(s), and/or petroleum product or derivative of a petroleum product, as defined by Federal and State environmental laws, off, on, into, or under land, property, and other interests of the United States; (e) Other activities by which solid or hazardous substance(s), pollutant(s) or contaminant(s), and/or petroleum product or derivative of a petroleum product, or waste(s), as defined by Federal and State environmental laws, are generated, released, stored, used, or otherwise disposed of on the patented real property, and any cleanup response, remedial action, or other actions related in any manner to said solid or hazardous substance(s) or waste(s), pollutant(s) or contaminant(s), and/or petroleum product or derivative of a petroleum product; or (f) Natural resource damages as defined by Federal and State law. This covenant shall be construed as running with the patented real property and may be enforced by the United States in a court of competent jurisdiction; and

4. Pursuant to the requirements established by Section 120(h) of the Comprehensive Environmental Response, Compensation and Liability Act, (42 U.S.C. 9620(h)), as amended by the Superfund Amendments and Reauthorization Act of 1988, (100 Stat. 1670), notice is hereby given that the above-described land has been examined and no evidence was found to indicate that any hazardous substances had been stored for one year or more, nor had any hazardous substances been disposed of or released on the subject property. No representation, warranty or covenant of any kind, express or implied, will be given or made by the United States, its officers or employees, as to access to or from the above described parcel of land, the title to the land, whether or to what extent the land may be developed, its physical condition, or its past, present or potential uses, and the conveyance of any such parcel will not be on a contingency basis. It is the buyer's responsibility to be aware of all applicable Federal, State, and local government policies and regulations that would affect the subject land. It is also the buyer's responsibility to be aware of existing or prospective uses of nearby properties. Any land lacking access from a public road or highway will be conveyed as such, and future access acquisition will be the responsibility of the buyer. In the event of a sale, the unreserved mineral interests will be conveyed simultaneously with the sale of the land. These unreserved mineral interests have been determined to have no known mineral value pursuant to 43 CFR 2720.0-6 and 2720.2(a). Acceptance of the sale offer will constitute an application for conveyance of those unreserved mineral interests.

Detailed information concerning the sale, including the reservations, sale procedures and conditions, appraisal, planning and environmental documentation, is available for review at the BLM Eugene District Office, 3106 Pierce Parkway, Suite E, Springfield, Oregon 97477.

In the absence of any objections, this realty action will become the final determination of the Department of the Interior.

Comments, including names, street addresses and other contact information of respondents, will be available for public review. Before including your address, phone number, e-mail address, or other personal identifying information in your comment, you should be aware that your entire comment-including your personal identifying information-may be made publicly available at any time. While you can ask us in your comment to withhold your personal identifying information from public review, we cannot guarantee that we will be able to do so.

(Authority: 43 CFR 2711.1-2(a))

Charles Fairchild,
Acting Field Manager, Siuslaw Resource Area.

[FR Doc. 2010-32313 Filed 12-22-10; 8:45 am]

BILLING CODE 4310-33-P